DEPARTMENT OF COMMERCE

National Oceanic and Atmospheric Administration

[RTID 0648-XD747]

Endangered and Threatened Species; Take of Anadromous Fish

AGENCY: National Marine Fisheries Service (NMFS), National Oceanic and Atmospheric Administration (NOAA), Commerce.

ACTION: Notice; issuance of an enhancement of survival permit, including an associated hatchery and genetic management plan.

SUMMARY: This notice announces the availability of the Final Environmental Assessment (EA) on the issuance of an Endangered Species Act (ESA) Enhancement of Survival Permit to the California Department of Fish and Wildlife (CDFW) for the operation of the Fall Creek Hatchery coho salmon program. The Fall Creek Hatchery coho salmon program is operated under an associated Hatchery Genetic Management Plan (HGMP). This notice also announces that NMFS has decided to issue a permit (15755-2M) to CDFW for activities described in their HGMP, and has authorized the HGMP for the Fall Creek Hatchery coho salmon program in the Klamath River watershed in California.

ADDRESSES: The application, permit, final HGMP, Final EA, and related documents are available for review by appointment at: California Coastal Area Office, 1655 Heindon Rd, Arcata, California 95521.

FOR FURTHER INFORMATION CONTACT: Jeff Abrams; phone: (707) 825-5186; fax: (707) 825-4840; email: Jeff.Abrams@noaa.gov (include the permit number in the subject line of the fax or email).

SUPPLEMENTARY INFORMATION:

Species Covered in This Notice

The following ESA-listed species are covered in this notice:

Coho salmon (Oncorhynchus kisutch): threatened Southern Oregon/Northern California Coast (SONCC) Evolutionarily Significant Unit.

Background

On March 27, 2023, NMFS announced in the Federal Register a notice of receipt of a permit application (15755-2M) to enhance the propagation and survival of species listed under the ESA of 1973, as amended, from CDFW (88 FR 18123). Under permit application 15755-2M, CDFW requested to implement, for the next 8 years, hatchery and monitoring activities associated with the Fall Creek Hatchery coho salmon program, under an associated HGMP. The HGMP is an update to the 2014 HGMP developed for the coho salmon hatchery program at Iron Gate Hatchery that was submitted by CDFW and PacifiCorp (permit 15755). Under permit application 15755-2M, CDFW proposed to continue to collect SONCC coho salmon for hatchery purposes. The draft HGMP specified methods of operation for the Fall Creek hatchery coho salmon program located along the Fall Creek, a tributary to the Klamath River, within the State of California. NMFS also announced the availability of the permit application and associated HGMP for public review and comment. The public review and comment period ended on April 26, 2023. NMFS did not receive any public comments on the permit application or draft HGMP during the public review period. Permit 15755-2M received final signature on August 22, 2023.

The HGMP covers activities related to the artificial production of coho salmon at Fall Creek Hatchery during the transition of the hatchery coho salmon program from Iron Gate Hatchery, and for 8 years after dam removal. NMFS will use the information in this HGMP to evaluate hatchery impacts on salmon listed under the ESA. Monitoring and in-river research activities, also included in the application, could result in take of SONCC coho salmon. The primary goal of an HGMP is to devise biologically based hatchery management strategies that ensure the conservation and recovery of salmon and steelhead species. Through implementation of this HGMP, and compliance with the ESA section 10(a)(1)(A) permit, the Fall Creek Hatchery coho salmon program will operate to conserve ESA-listed SONCC coho salmon.

The Fall Creek Hatchery coho salmon program will culture coho salmon of the Upper Klamath Population Unit. This unit is part of the SONCC Evolutionarily Significant Unit that is listed as threatened under ESA. The HGMP incorporates principles of hatchery operations developed by the Hatchery Scientific Review Groups of the Columbia River and California. The primary purpose of the Fall Creek Hatchery coho salmon program is to protect the genetic resources of the Upper Klamath Population Unit and reduce extinction risks prior to and 8 years after the removal of the four Klamath River dams. The purpose would be achieved by integrating natural origin adults into broodstock and using a genetically based spawning matrix to reduce inbreeding. The natural origin fish required to integrate the Fall Creek Hatchery coho salmon program will be obtained from Bogus Creek, the Iron Gate Hatchery auxiliary fish ladder, Fall Creek (e.g., via seine or dip net), and fish volitionally entering the Fall Creek Hatchery as described in the broodstock collection document and the terms and conditions of NMFS' 2021 Biological Opinion for the “Surrender and Decommissioning of the Lower Klamath Hydroelectric Project No. 14803.”

The secondary purpose of the Fall Creek Hatchery coho salmon program is to provide adult coho salmon that could disperse to newly accessible habitat (76 miles or 122 kilometers) made available following dam removal. The potential dispersal of adult coho salmon results from Fall Creek Hatchery origin coho salmon straying to other tributaries and by releasing surplus adult coho salmon back to the mainstem Klamath River near Fall Creek.

Take of adult and juvenile coho salmon associated with permit 15755-2M is described in the NMFS permit and particularly detailed in table 1 of the permit. Permit 15755-2M expires on December 31, 2031.

This notice is provided under National Environmental Policy Act regulations and NMFS ESA permit regulations to inform the public that the Final EA, HGMP, and associated documents are available for review.

Authority

Enhancement permits are issued in accordance with section 10(a)(1)(A) of the ESA (16 U.S.C. 1531 et seq.) and regulations governing listed fish and wildlife permits (50 CFR part 222). NMFS issues permits based on findings that such permits: (1) are applied for in good faith; (2) if granted and exercised, would not operate to the disadvantage of the listed species that are the subject of the permit; (3) are consistent with the purposes and policies of section 2 of the ESA; (4) whether the permit would further a bona fide and necessary or desirable scientific purpose or enhance the propagation or survival of the endangered species, taking into account the benefits anticipated to be derived on behalf of the endangered species; and additional issuance criteria (as listed at 50 CFR 222.308(c)(5)-(12)). The authority to take listed species is subject to conditions set forth in the permit.

Dated: February 23, 2024.
Angela Somma,
Chief, Endangered Species Division, Office of Protected Resources, National Marine Fisheries Service.

[FR Doc. 2024-04141 Filed 2-27-24; 8:45 am]

BILLING CODE 3510-22-P